ENVIRONMENTAL PROTECTION AGENCY

[EPA-HQ-OPPT-2015-0805; FRL-9940-22]

Chemical Safety Advisory Committee; Notice of Public Meeting

AGENCY: Environmental Protection Agency (EPA).

ACTION: Notice.

SUMMARY: There will be a 3-day meeting of the Chemical Safety Advisory Committee (CSAC) to consider and review the draft risk assessment for TSCA work plan chemical, 1-bromopropane (CASRN-106-94-5).

DATES: The meeting will be held on May 24-26, 2016, from approximately 9:00 a.m. to 5:00 p.m.

Comments. The Agency encourages written comments be submitted on or before May 10, 2016, and requests to present oral comments be submitted on or before May 17, 2016. Written comments and requests to make oral comments may be submitted until the date of the meeting; however, anyone submitting written comments after May 10, 2016, should contact the Designated Federal Official (DFO) listed under FOR FURTHER INFORMATION CONTACT. For additional instructions, see Unit I.C. of the SUPPLEMENTARY INFORMATION.

Nominations. Nominations of candidates to serve on the review subcommittee for this meeting of the CSAC should be provided on or before March 31, 2016.

Webcast. Please refer to the Web site at http://www.epa.gov/sap for information on how to access the meeting webcast. Please note that the webcast is a supplementary public process provided only for convenience. If difficulties arise resulting in webcasting outages, the meeting will continue as planned.

Special accommodations. For information on access or services for individuals with disabilities, and to request accommodation of a disability, please contact the DFO listed under FOR FURTHER INFORMATION CONTACT at least 10 days prior to the meeting to give EPA ample time to process your request.

ADDRESSES:

Meeting: The meeting will be held in the Washington, DC area. For additional information on the meeting location, please visit http://www.epa.gov/sap.

Comments: Submit your comments, identified by docket identification (ID) number EPA-HQ-OPPT-2015-0805, by one of the following methods:

• Federal eRulemaking Portal: http://www.regulations.gov. Follow the online instructions for submitting comments. Do not electronically submit information you consider to be Confidential Business Information (CBI) or other information whose disclosure is restricted by statute.

• Mail: OPPT Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets, is available at http://www.epa.gov/dockets.

Nominations, requests to present oral comments, and requests for special accommodations. Submit nominations to serve on the review subcommittee for this meeting of the CSAC, requests for special accommodations, or requests to present oral comments to the DFO listed under FOR FURTHER INFORMATION CONTACT.

FOR FURTHER INFORMATION CONTACT: Steven M. Knott, DFO, Office of Science Coordination and Policy (7201M), Environmental Protection Agency, 1200 Pennsylvania Ave. NW., Washington, DC 20460-0001; telephone number: (202) 564-0103; email address: knott.steven@epa.gov.

SUPPLEMENTARY INFORMATION:

I. General Information

A. Does this action apply to me?

This action is directed to the public in general. This action may, however, be of interest to those involved in the manufacture, processing, distribution, disposal, and/or the assessment of risks involving chemical substances and mixtures. Since other entities may also be interested, the Agency has not attempted to describe all the specific entities that may be affected by this action.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see the commenting tips at http://www.epa.gov/dockets/comments.html.

C. How may I participate in this meeting?

You may participate in this meeting by following the instructions in this unit. To ensure proper receipt by EPA, it is imperative that you identify docket ID number EPA-HQ-OPPT-2015-0805 in the subject line on the first page of your request.

1. Written comments. The Agency encourages written comments be submitted, using the instructions in ADDRESSES and Unit I.B., on or before May 10, 2016, to provide CSAC the time necessary to consider and review the written comments. Written comments are accepted until the date of the meeting, but anyone submitting written comments after May 10, 2016, should contact the DFO listed under FOR FURTHER INFORMATION CONTACT. Anyone submitting written comments at the meeting should bring 15 copies for distribution to CSAC.

2. Oral comments. The Agency encourages each individual or group wishing to make brief oral comments to CSAC to submit a request to the DFO listed under FOR FURTHER INFORMATION CONTACT on or before May 17, 2016, in order to be included on the meeting agenda. Requests to present oral comments will be accepted until the date of the meeting and, to the extent that time permits, the Chair of CSAC may permit the presentation of oral comments at the meeting by interested persons who have not previously requested time. The request should identify the name of the individual making the presentation, the organization (if any) the individual will represent, and any requirements for audiovisual equipment. Oral comments before CSAC are limited to approximately five minutes unless prior arrangements have been made. In addition, each speaker should bring 15 copies of his or her comments and presentation for distribution to CSAC at the meeting.

3. Seating at the meeting. Seating at the meeting will be open and on a first-come basis.

4. Request for nominations to serve as review subcommittee members for this meeting of the CSAC. As part of a broader process for developing a pool of candidates for each meeting, EPA staff solicits the stakeholder community for nominations of prospective candidates for service as review subcommittee members for CSAC. Any interested person or organization may nominate qualified individuals to be considered as prospective candidates for a specific review. Individuals nominated for this meeting should have expertise in one or more of the following areas: Epidemiology of neurotoxicity of volatile and semivolatile organic chemicals; risk assessment of neurotoxic chemicals; risk assessment for developmental toxicity of volatile and semivolatile organic chemicals; cancer assessment of mutagenic chemicals; statistics with experience with bench mark dose response analysis of cancer and noncancer endpoints; occupational exposure to volatile and semivolatile organic chemicals; consumer exposure to volatile and semivolatile organic chemicals. Nominees should be scientists who have sufficient professional qualifications, including training and experience, to be capable of providing expert comments on the scientific issues for this meeting. Nominees should be identified by name, occupation, position, address, email address, and telephone number. Nominations should be provided to the DFO listed under FOR FURTHER INFORMATION CONTACT on or before March 31, 2016. The Agency will consider all nominations of prospective candidates for this meeting that are received on or before that date. However, final selection of subcommittee members for this meeting is a discretionary function of the Agency.

The selection of scientists to serve on CSAC subcommittees is based on the function of the subcommittee and the expertise needed to address the Agency's charge to the subcommittee. No interested scientists shall be ineligible to serve by reason of their membership on any other advisory committee to a Federal department or agency or their employment by a Federal department or agency, except EPA. Other factors considered during the selection process include availability of the potential subcommittee member to fully participate in the subcommittee's reviews, absence of any conflicts of interest or appearance of lack of impartiality, independence with respect to the matters under review, and lack of bias. Although financial conflicts of interest, the appearance of lack of impartiality, lack of independence, and bias may result in disqualification, the absence of such concerns does not assure that a candidate will be selected to serve on a subcommittee. Numerous qualified candidates may be identified for each subcommittee. Therefore, selection decisions involve carefully weighing a number of factors including the candidates' areas of expertise and professional qualifications and achieving an overall balance of different scientific perspectives on the subcommittee. In order to have the collective breadth of experience needed to address the Agency's charge for this meeting, the Agency anticipates selecting approximately three to four review subcommittee members.

CSAC members and subcommittee members are subject to the provisions of 5 CFR part 2634—Executive Branch Financial Disclosure, Qualified Trusts, and Certificates of Divestiture, as supplemented by EPA in 5 CFR part 6401. In anticipation of this requirement, prospective candidates for service on CSAC and CSAC subcommittees will be asked to submit confidential financial information which shall fully disclose, among other financial interests, the candidate's employment, stocks and bonds, and where applicable, sources of research support. EPA will evaluate the candidates financial disclosure form to assess whether there are financial conflicts of interest, appearance of a lack of impartiality, or any prior involvement with the development of the documents under consideration (including previous scientific peer review) before the candidate is considered further for service on CSAC or CSAC subcommittees. Those who are selected from the pool of prospective candidates will be asked to attend the public meetings and to participate in the discussion of key issues and assumptions at these meetings. In addition, they will be asked to review and to help finalize the meeting minutes. The list of CSAC members and CSAC subcommittee members participating at this meeting will be posted on the Web site at http://www.epa.gov/sap or may be obtained from the OPPT Docket at http://www.regulations.gov.

II. Background

A. Purpose of CSAC

OPPT manages programs under the Toxic Substances Control Act (TSCA), 15 U.S.C. 2601 et seq., and the Pollution Prevention Act (PPA), 42 U.S.C. 13101 et seq. Under these laws, EPA evaluates new and existing chemical substances and their risks, and finds ways to prevent or reduce pollution before it is released into the environment. OPPT also manages a variety of environmental stewardship programs that encourage companies to reduce and prevent pollution.

The CSAC was established under FACA section 9(a) to provide advice and recommendations on the scientific basis for risk assessments, methodologies, and pollution prevention measures or approaches. The CSAC is composed of 10 members who serve as Regular Government Employees (RGEs) or Special Government Employees (SGEs). A copy of the CSAC charter is available on the EPA Web site and in the docket.

B. Public Meeting

During the meeting scheduled for May 24-26, 2016, the CSAC will focus on the external peer review of the draft document entitled, “TSCA Work Plan Chemical Risk Assessment 1-bromopropane (n-Propyl Bromide): Spray adhesives, dry cleaning, and degreasing uses (CASRN: 106-94-5).” The assessment will focus on uses of 1-bromopropane in commercial (i.e., vapor degreasing, spray adhesives, and dry cleaning) and consumer applications (i.e., aerosol solvent cleaners and spray adhesives). Given the range of endpoints (i.e., cancer, non-cancer; the latter includes potential effects on the developing fetus and adults of both sexes), susceptible populations are expected to include adults (including pregnant women) in commercial uses and children (as bystanders) and adults of all ages (including pregnant women) for consumer uses. Thus, the assessment will focus on all humans/lifestages. The CSAC will be charged with reviewing the scientific and technical merit of the draft 1-bromopropane risk assessment focusing exclusively on the scientifically relevant issues pertinent to the assessment.

C. CSAC Documents and Meeting Minutes

EPA's background paper, related supporting materials, charge/questions to CSAC, CSAC composition (i.e., members and subcommittee members for this meeting), and the meeting agenda will be available approximately 4 weeks prior to the meeting. In addition, the Agency may provide additional background documents as the materials become available. You may obtain electronic copies of these documents, and certain other related documents that might be available at http://www.regulations.gov and the Web site at http://www.epa.gov/sap.

CSAC will prepare meeting minutes summarizing its recommendations to the Agency approximately 90 days after the meeting. The meeting minutes will be posted to the Web site at http://www.epa.gov/sap or may be obtained from the OPPT Docket at http://www.regulations.gov.

Authority: 5 U.S.C. App. 2 § 9(c).

Dated: February 26, 2016.
David J. Dix,
Director, Office of Science Coordination and Policy.

[FR Doc. 2016-05987 Filed 3-15-16; 8:45 am]

BILLING CODE 6560-50-P